DEPARTMENT OF THE TREASURY

Senior Executive Service, Departmental Offices, FY 2004 Performance/Bonus Review Board; Amendment October 1, 2004

AGENCY: Treasury Department.

ACTION: Notice of members of the Departmental Offices Performance/Bonus Review Board.

SUMMARY: Pursuant to 5 U.S.C. 4314(c)(4), this notice announces the appointment of members of the Departmental Offices Performance/Bonus Review Board. The purpose of this Board is to review and make recommendations concerning proposed Performance appraisals, ratings, bonuses and other appropriate personnel actions for incumbents of SES positions.

Composition of Departmental Board: The Board shall consist of at least three members. In the case of an appraisal of a career appointee, more than half the members shall consist of career appointees. The names and titles of the Boards members are attached.

DATES: Membership is effective on the date of this notice.

FOR FURTHER INFORMATION CONTACT: Cathy Hickson-Smith, Department of the Treasury, Office of Human Resources, HR Management Specialist, 15th and Pennsylvania Ave., NW., Washington, DC 20220. Telephone: 202-622-1690.

This notice does not meet the Department's criteria for significant Regulations.

Barbara McWhirter.

FY 2004 Performance/Bonus Review Board
Name | Official title
Angus, Barbara M | Internal Tax Counsel.
Bitsberger, Timothy S | DAS (Federal Finance).
Carfine, Kenneth Edward | DAS for Fiscal Operations and Policy.
Carleton, Norman K | Policy Director, Office of Financial M.
Carroll, Robert J | DAS (Tax Analysis).
Contreras, Rebecca A | Deputy Asst Sec & Chief Human Capital.
Dawson, Michael A | Dep Asst Sec for Critical Infrastructu.
Delgado Jenkins, Jesus H | DAS (Management and Budget).
Dobbins, Paul S | Director for Economic Modeling & Compu.
Dohner, Robert S | Senior Advisor to DAS (Intl Monetary).
Emiling, John H | Deputy Asst Sec for Legislative Affair.
Fall III, James H | DAS (Technical Assistance Policy).
Farrell, Paula F | DIR, Office of Government Financing.
Fatto, Salvatore Antonio | Dep Asst Sec (Public Affairs).
Fuller, Reese H | ACD Program Director.
Garcia, Arthur A | Director, CDFI Fund.
Geduldig, Courtney Clelan | DAS for Legis Affrs (Banking & Finan).
Gerardi, Geraldine A | Dir for Business Taxation.
Granat, Rochelle | Dir, DC Pensions.
Hammond, Donald V | Fiscal Assistant Secretary.
Hudson, Barry K | Deputy Chief Financial Officer.
Jaskowiak, Mark M | Diretor, Office of Specialized Develo.
Jenner, Gregory F | Deputy Asst Sec (Tax Policy).
Jones, Owen M | Dep Dir for Mgmt & Chief Fin Ofc.
Kiefer, Donald W | Director, Office of Tax Analysis.
Kodat, Roger E | DAS (Government Financial Policy).
Kupfer, Jeffrey F | Deputy Chief of State.
Lee, Nancy | DAS (Eurasia & Middle East).
Lingebach, James R | Dir., Accnting & Internal Control.
Lingrell, David A | Dir., Treas Bldg & Annex Reno & Rebldg Prog.
Loevinger, David G | Director, Office of East Asian Nations.
Lowery, Clay | Deputy Assistant Secretary (Debt & Dev P).
Mathiasen, Karen V | Dir, Ofc of Central & Easten Europ Nats.
McFadden, William J | Senior Policy Advisor.
Merkel, David A | DAS for Legislative Affairs (Internat).
Monroe, David J | Director, Office of Cash and Debt Mana.
Murden, William C | Dir, Ofc of Int'l Bankg & Sec Markets.
Newcomb, Robert R | Director, Office of Foreign Assets.
Nickles, Kim E | White House Liaison.
Nunns, James R | Dir for Individual Taxation.
Olechowski, Mark J | Dir, Do Modern. Project.
Parker, Orland M | Acting Chief Information Officer.
Paulson, Sara L | Supvy Director, Office of Development.
Pittman Jr, Bobby J | DAS Multilateral Dev Banks (IA).
Platt, Joel D | Dir for Revenue Estimating.
Pointer, Patricia J | Dep. to the Daswm & Dir., Ofc. of Workfo.
Randolph, William C | Director for International Taxation.
Reid, Robert N | DAS for Accounting Operations.
Relic, Rebecca L | DAS (Pub Lia, Str Pl Bus Dev).
Schott, Charles G | Deputy Asst Sec (Trade & Invest Policy).
Schuerch, William E | Dep Asst Sec (Int Dev, Debt & Envir Pol).
Shaw, Mary Beth | Dir., Office of D.C. Pensions.
Sills, Gay H | Dir, Ofc of International Investment.
Skud, Timothy E | DAS Tax, Trade and Tariff Policy.
Smith III, George E | Director, Ofc. of Technical Assistance.
Smith, Christopher A | Chief of Staff.
Sobel, Mark D | Deputy Ast Sec (Intl Mon. & Fin Pol).
Solomon, Eric | DAS (Regulatory Affairs).
Stedman, Louellen | Dir of Internatl Mon Aff.
Stein, Robert S | Dir (Macroeconomic Analysis).
Sweetnam Jr, William F | Benefits Tax Counsel.
Toloui, Ramin | Dir Ofc Latn Amer & Carib Ntns.
Tvardek, Steven F | Director, Office of Trade Finance.
Warthin, Thomas W | Dir., Ofc of Finan. Svcs Negotiations.
Weatherford, Timothy L | Senior Advisor to the Assistant Secret.
Wolfe, George B | Senior Advisor.
Wright Jr, Willie E | Deputy Asst Sec (Workforce Management).
Zarate, Juan C | DAS, Executive Ofc of Terr Fin & Fin C.
Zerzan, Gergory P | Dep. Ast Sec for (Fin Inst & Gse Pol).

SES PRB Process for FY04

[FR Doc. 04-23933 Filed 10-25-04; 8:45 am]

BILLING CODE 4811-20-M